SECURITIES AND EXCHANGE COMMISSION

[File No. 500-1]

In the Matter of: American Motorcycle Corp. (f/k/a Scope Industries, Inc.); Order of Suspension of Trading

May 8, 2008.

It appears to the Securities and Exchange Commission that there is a lack of current and accurate information concerning the securities of American Motorcycle Corp. (f/k/a Scope Industries, Inc.) because it has not filed any periodic reports since the period ended September 30, 2000.

The Commission is of the opinion that the public interest and the protection of investors require a suspension of trading in the securities of the above-listed company.

Therefore, it is ordered, pursuant to Section 12(k) of the Securities Exchange Act of 1934, that trading in American Motorcycle Corp. (f/k/a Scope Industries, Inc.) is suspended for the period from 9:30 a.m. EDT on May 8, 2008, through 11:59 p.m. EDT on May 21, 2008.

By the Commission.
Nancy M. Morris,
Secretary.

[FR Doc. 08-1249 Filed 5-8-08; 10:18 am]

BILLING CODE 8010-01-P